DEPARTMENT OF ENERGY

[OE Docket No. EA-436-A]

Application To Export Electric Energy; MAG Energy Solutions, Inc.

AGENCY: Office of Electricity, Department of Energy.

ACTION: Notice of application.

SUMMARY: MAG Energy Solutions, Inc. (Applicant or MAG) has applied for authorization to transmit electric energy from the United States to Mexico pursuant to the Federal Power Act.

DATES: Comments, protests, or motions to intervene must be submitted on or before May 12, 2022.

ADDRESSES: Comments, protests, motions to intervene, or requests for more information should be addressed by electronic mail to Electricity.Exports@hq.doe.gov, or by facsimile to (202) 586-8008.

FOR FURTHER INFORMATION CONTACT: Matt Aronoff, 202-586-5863, matthew.aronoff@hq.doe.gov.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (FPA) (16 U.S.C. 824a(e)).

On March 22, 2022, MAG filed an application with DOE (Application or App.) for “authorization for renewal of authority to transmit electric energy from the United States to Mexico for a period of five (5) years.” App. at 1. MAG states that it “is an independent Canadian corporation with its principal place of business in Montreal, Quebec.” Id. at 2. MAG adds that “[t]he U.S. Federal Energy Regulatory Commission (“FERC”) authorized MAG to engage in wholesale sales of electric energy, capacity and ancillary services at market-based rates.” Id. MAG represents that it “does not have any affiliates or upstream owners that possess any ownership interest or have involvement in any other company that is a traditional utility or that owns, operates, or controls any electric generation, transmission or distribution facilities, nor do[es it] have any direct involvement with the energy industry other than through the ownership of MAG.” Id.

MAG further claims that it would “purchase power to be exported from a variety of sources such as power marketers, independent power producers, or U.S. electric utilities and federal power marketing entities as those terms are defined in Sections 3(22) and 3(19) of the [Federal Power Act].” App. at 3. MAG contends that its proposed exports “on either a firm or interruptible basis will not impair the sufficiency of the electric power supply within the U.S.” Id.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the FERC Rules of Practice and Procedure (18 CFR 385.211). Any person desiring to become a party to this proceeding should file a motion to intervene at the above address in accordance with FERC Rule 214 (18 CFR 385.214).

Comments and other filings concerning MAG's application to export electric energy to Mexico should be clearly marked with OE Docket No. EA-436-A. Additional copies are to be provided directly to Ruta Kalvaitis Skučas, 1601 K St. NW, Washington, DC 20006, ruta.skucas@klgates.com; Maeve Tibbetts, 1601 K St., NW, Washington, DC 20006, maeve.tibbetts@klgates.com; and Simon Pelletier, 999 de Maisonneuve Boulevard West, Suite 875, Montreal, Quebec H3A 3L4, Canada, spelletier@magenergysolutions.com.

A final decision will be made on the requested authorization after the environmental impacts have been evaluated pursuant to DOE's National Environmental Policy Act Implementing Procedures (10 CFR part 1021) and after DOE evaluates whether the proposed action will have an adverse impact on the sufficiency of supply or reliability of the U.S. electric power supply system.

Copies of the Application will be made available, upon request, by accessing the program website at https://energy.gov/node/11845, or by emailing Matt Aronoff at matthew.aronoff@hq.doe.gov.

Signed in Washington, DC, on April 7, 2022.
Christopher Lawrence,
Management and Program Analyst, Electricity Delivery Division, Office of Electricity.

[FR Doc. 2022-07800 Filed 4-11-22; 8:45 am]

BILLING CODE 6450-01-P